DEPARTMENT OF TRANSPORTATION

Federal Aviation Commission

Receipt of an Amendment to Noise Compatibility Program and Request for Review

AGENCY: Federal Aviation Administration, DOT.

ACTION: Notice.

SUMMARY: The Federal Aviation Administration (FAA) announces that it is reviewing a proposed amendment to the noise compatibility program that has been submitted on January 12, 2004 for Toledo Express Airport under the provisions of 49 U.S.C. 47501 et seq. (the Aviation Safety and Noise Abatement Act, hereinafter referred to as “the Act”) and 14 CFR part 150 by Toledo-Lucas County Port Authority. This amendment to the program was submitted subsequent to the approval by FAA of the noise compatibility program on July 22, 2003 and a determination that the associated noise exposure maps submitted under 14 CFR part 150 for Toledo Express Airport were in compliance with applicable requirements, effective January 24, 2003, published in the Federal Register February 14, 2003. The proposed noise compatibility program amendment will be approved or disapproved on or before July 11, 2004.

EFFECTIVE DATE: The effective date of the start of FAA's review of the noise compatibility program amendment is January 14, 2004. The public comment period ends March 13, 2004.

FOR FURTHER INFORMATION CONTACT: Katherine S. Jones, Community Planner, DET ADO 606, Detroit Airports District Office, 11677 South Wayne Road, Ste. 107, Romulus, MI 48174. Comments on the proposed noise compatibility program amendment should also be submitted to the above office.

SUPPLEMENTARY INFORMATION: This notice announces that the FAA is reviewing a proposed noise compatibility program amendment for Toledo Express Airport, which will be approved or disapproved on or before July 11, 2004. This notice also announces the availability of this program amendment for public review and comment.

An airport operator who has submitted noise exposure maps that are found by FAA to be in compliance with the requirements of Federal Aviation Regulations (FAR) Part 150, promulgated pursuant to the Act, may submit a noise compatibility program for FAA approval which sets forth the measures the operator has taken or proposes to reduce existing non-compatible uses and prevent the introduction of additional non-compatible uses.

The FAA has formally received the noise compatibility program amendment for Toledo Express Airport, effective on January 12, 2004. The airport operator has requested that the FAA review this material and that the noise mitigation measure, to be implemented jointly by the airport and surrounding communities, be approved as a noise compatibility program under section 47504 of the Act. Preliminary review of the submitted material indicates that it conforms to FAR Part 150 requirements for the submittal of noise compatibility program amendment, but that further review will be necessary prior to approval or disapproval of the program amendment. The formal review period, limited by law to a maximum of 180 days, will be completed on or before July 11, 2004.

The FAA's detailed evaluation will be conducted under the provisions of 14 CFR part 150, section 150.33. The primary considerations in the evaluation process are whether the proposed amended measures may reduce the level of aviation safety or create an undue burden on interstate or foreign commerce, and whether they are reasonably consistent with obtaining the goal of reducing existing non-compatible land uses and preventing the introduction of additional non-compatible land uses.

Interested persons are invited to comment on the proposed program amendment with specific reference to these factors. All comments relating to these factors, other than those properly addressed to local land use authorities, will be considered by the FAA to the extent practicable. Copies of the noise exposure maps, the existing approved noise compatibility program and the proposed noise compatibility program amendment are available for examination at the following locations:

Federal Aviation Administration, Detroit Airports District Office, 11677 South Wayne Road, Ste. 107, Romulus, Michigan 48174.

Toledo-Lucas County Port Authority, Toledo Express Airport, 11013 Airport Highway, Box 11, Swanton, Ohio 43558.

Questions may be directed to the individual named above under the heading FOR FURTHER INFORMATION CONTACT.

Issued in Romulus, Michigan, January 14, 2004.
Irene R. Porter,
Manager, Detroit Airports District Office.

[FR Doc. 04-2199 Filed 2-2-04; 8:45 am]

BILLING CODE 4910-13-M